DEPARTMENT OF TRANSPORTATION

Federal Transit Administration

Environmental Impact Statement on Transportation Improvements Within the Proposed North/South Central and Southeast Corridors in Austin, Texas

AGENCY: Federal Transit Administration, DOT.

ACTION: Notice of Intent to prepare an environmental impact statement.

SUMMARY: The Federal Transit Administration (FTA) and the Capital Metropolitan Transportation Authority (CMTA) is issuing this notice to advise interested agencies and the public that an environmental impact statement is being prepared in accordance with the National Environmental Policy Act (NEPA) for transportation improvements in the proposed North/South Central and Southeast Corridors in Austin, Texas. Due to tremendous growth in the Austin Metropolitan Area over the past decade, major north-south freeways and arterials serving three major employment centers are severely congested. In 1997, 50% of commuters used north/south freeways daily. Additionally, the Austin metropolitan area has exceeded the Environmental Protection Agency (EPA) standards for ozone over the past three years and risks non-attainment designation in 2000. The proposed project will provide alternative means of travel for commuters to their destination, reduce congestion and vehicular emissions, and improve air quality in the region.

DATES: Comment Due Date: Written comments on the scope of the alternatives and impacts to be considered should be sent to Surinder Marwah, Project Manager by June 23, 2000. Scoping Meetings: Three public scoping meetings will be held at the following locations and dates. Scoping material will be available at the meeting or in advance of the meeting by contacting Sam Archer, Capital Metro, at (512) 389-7546. A court reporter will be available to record comments and a sign language interpreter will be available for the hearing impaired. A TDD number (512) 389-3230 is also available for the hearing impaired. The buildings are accessible to people with disabilities.

Public Scoping

Tuesday, June 6, 2000, from 7:00 P.M. to 9:00 P.M., Winters Bldg.—Public Hearing Room, Texas Dept. of Human Services (Winters Building), 701 West 51st Street, Austin, Texas

Wednesday, June 7, 2000, from 7:00 P.M. to 9:00 P.M., South Austin Multipurpose Center, 2508 Durwood St., Austin, Texas

Thursday, June 8, 2000, from 7:00 P.M. to 9:00 P.M., Austin History Center Reception Room, 9th and Guadalupe, Austin, Texas

Interagency Scoping

Monday, June 5, 2000 from 1 P.M. to 3 P.M., Capital Metro, 2910 East 5th Street, Austin, Texas 78702

ADDRESSES: Written comments on the project scope should be sent to Surinder Marwah, Project Manager, Capital Metro, 2910 East 5th Street, Austin, Texas 78702. Telephone (512) 369-6047, Fax (512) 369-6072.

FOR FURTHER INFORMATION CONTACT: Mr. Jesse Balleza, Federal Transit Administration, Region VI, 819 Taylor Street, Suite 8A36, Fort Worth, Texas 76102; Telephone (817) 978-0550.

SUPPLEMENTARY INFORMATION:

I. Scoping

The Federal Transit Administration (FTA) in cooperation with the Capital Metropolitan Transportation Authority (Capital Metro), intends to prepare an Environmental Impact Statement (EIS) for the proposed North/South Central and Southeast Corridors in Austin, Texas. The public is invited to participate in developing the analysis approach, alignment alternatives to be evaluated, and the mode and technologies to be considered. Project comments may be made at the public scoping meetings or in writing. See the “Scoping Meeting”' section above for locations and times.

II. Description of Corridor and Its Transportation Needs

The proposed North/South Central Corridor would provide service from Ben White Boulevard, through the central business district (CBD) to north Austin at McNeil Road. The proposed Southeast Corridor would provide service from the CBD to Pleasant Valley/Martin Luther King (MLK) Boulevard. Combined, the initial phase would be approximately 20 miles long and encompass approximately 26 stations, including park and ride lots. A portion of the proposed project would operate along the existing railroad right-of-way (ROW) owned by Capital Metro from McNeil Road in north Austin to Lamar Boulevard at Airport Road, then operate in the street through the CBD to Ben White Boulevard in south Austin, and in street from the CBD to IH-35 and then along existing railroad ROW to Pleasant Valley/MLK Blvd. The proposed alignment would provide access to three major activity centers in Austin, the University of Texas at Austin, the State Capitol Complex, and the CBD.

The Austin Metropolitan Area is one of the fastest growing regions in the United States. Between 1990 and 1997, the population increased almost 30% (U.S. Census). The Capital Area Metropolitan Planning Organization (CAMPO) estimates the population will exceed 1.9 million by year 2025. In 1997, 50% of commuters used north/south freeways daily (CAMPO). The current north-south freeways (IH-35 and Loop 1/Mopac Expressway) will have to increase capacity significantly to meet future demand.

Additionally, the Austin metropolitan area has exceeded the Environmental Protection Agency (EPA) standards for ozone over the past three years and risks non-attainment designation in 2000. The Texas Natural Resource Conservation Commission has attributed vehicular emissions as the single largest cause of air pollutants in the region.

Area residents particularly minority, elderly, or low-income individuals often rely on transit for their transportation needs. Regional employment also has continued to grow, particularly in the high-tech industry. The emergence of new activity centers along the proposed corridor within the last fifteen years has created new commuting patterns and additional demands on transportation facilities.

III. Alternatives

The transportation alternatives proposed for consideration in this project area include:

No-Action—which involves no change to transportation services or facilities in the corridor beyond already committed projects;

Enhanced Bus/Transportation System Management (TSM)—alternative which consists of low to medium cost improvements to the facilities and operation of the Capital Metro bus system in addition to the currently planned transit improvements in the corridors, and

Build Alternative—Build alternatives (including line, station locations and support facilities), including light rail and bus rapid transit transportation modes generally following the existing railroad right-of-way (ROW) owned by Capital Metro from McNeil Road in north Austin to Lamar Blvd. At Airport Road, then operate in the street through the CBD to Ben White Blvd. in south Austin, and in street from the CBD to IH-35 and then along existing railroad ROW to Pleasant Valley/MLK Blvd.

IV. Probable Effects

The FTA and Capital Metro will evaluate all significant environmental, social, and economic impacts of the alternatives analyzed in the EIS. Primary environmental issues include: land use and neighborhood protection, traffic and parking, visual, noise and vibration, safety, aesthetics, storm water management, archaeological, historic, cultural and ecological resources. Impacts on natural areas, rare and endangered species, air and water quality, groundwater, and potentially contaminated sites will also be studied. Displacements and relocations, ecosystems, water resources, hazardous waste, parklands, and energy impacts will be assessed. The impacts will be evaluated for the construction period and for the long-term operation of each alternative. Measures to avoid, minimize or mitigate any significant adverse impacts will be developed.

V. FTA Procedures

In accordance with the federal transportation planning regulations (23 CFR Part 450), the Draft EIS will be prepared to include an evaluation of the social, economic, and environmental impacts and benefits of the alternatives. The DEIS will consider the public and agency comments received and Capital Metro in coordination with CAMPO and other affected agencies, will select the preferred alternative. Then Capital Metro, as the local lead agency, will continue with the preparation of the Final EIS (FEIS). Opportunity for additional public comment will be provided throughout all phases of project development.

Issued on: May 16, 2000.
Blas M. Uribe,
Deputy Regional Administrator.

[FR Doc. 00-12637 Filed 5-18-00; 8:45 am]

BILLING CODE 4910-57-P